NUCLEAR REGULATORY COMMISSION

[NRC-2009-0407]

BiWeekly Notice Applications and Amendments to Facility Operating Licenses; Involving No Significant Hazards Considerations

I. Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from August 27, 2009 to September 9, 2009. The last biweekly notice was published on September 8, 2009 (74 FR 46239).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking and Directives Branch (RDB), TWB-05-B01M, Division of Administrative Services, Office of Administration, U.S. Nuclear Regulatory Commission, Washington, DC 20555-0001, and should cite the publication date and page number of this Federal Register notice. Written comments may also be faxed to the RDB at 301-492-3446. Documents may be examined, and/or copied for a fee, at the NRC's Public Document Room (PDR), located at One White Flint North, Public File Area O-1 F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O-1 F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 2007 (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the petitioner/requestor should contact the Office of the Secretary by e-mail at hearing.docket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms ViewerTM is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory e-filing system may seek assistance through the “Contact Us” link located on the NRC Web site at http://www.nrc.gov/site-help/e-submittals.html or by calling the NRC electronic filing Help Desk, which is available between 8 a.m. and 8 p.m., Eastern Time, Monday through Friday, excluding government holidays. The toll-free help line number is 1-866-672-7640. A person filing electronically may also seek assistance by sending an e-mail to the NRC electronic filing Help Desk at MSHD.Resource@nrc.gov.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the request and/or petition should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submissions.

For further details with respect to this license amendment application, see the application for amendment which is available for public inspection at the Commission's PDR, located at One White Flint North, Public File Area O-1 F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Southern California Edison Company, et al., Docket Nos. 50-361 and 50-362, San Onofre Nuclear Generating Station, Units 2 and 3, San Diego County, California

Date of amendment requests: January 30, 2009, as supplemented by letter dated March 16, 2009.

Description of amendment requests: Southern California Edison (SCE) is requesting an amendment to Technical Specification 5.7.1.5, “Core Operating Limits Report (COLR),” to allow the use of the CASMO-4 computer program methodology to perform nuclear design calculations.

Basis for proposed no significant hazards consideration determination: As required by 10 CFR 50.91(a), the licensee has provided its analysis of the issue of no significant hazards consideration, which is presented below:

1. Does the proposed change involve a significant increase in the probability or consequences of an accident previously evaluated?

Response: No.

The proposed changes do not involve a significant increase in the probability or consequences of an accident previously evaluated.

SCE is adding the CASMO-4 computer program to its physics analysis methodology and will use the program for nuclear design analysis. This will allow the use of the CASMO-4 methodology to perform all steady-state pressurized water reactor (PWR) nuclear design analyses. The probability of occurrence of an accident previously evaluated will not be increased by the proposed change in the particular computer programs used for physics calculations for nuclear design analysis. The results of nuclear design analyses are used as inputs to the analysis of accidents that are evaluated in the Updated Final Safety Analysis Report (UFSAR). These inputs do not alter physical characteristics or modes of operation of any system, structure, or component involved in the initiation of an accident. Thus, there is no significant increase in the probability of an accident previously evaluated as a result of this change.

The consequences of an accident evaluated in the UFSAR are affected by the values of the physics inputs to the safety analysis. An extensive benchmark of CASMO-4 was performed with both San Onofre measured and predicted data, and with critical experiments. The accuracy of the CASMO-4 model is similar to the accuracy of the CASMO-3 model. Furthermore, there is the potential for the value of the nuclear design parameters to change solely as a result of the new core reload full core loading pattern. Regardless of the source of a change, an assessment is made of changes to the nuclear design parameters with respect to their effects on the consequences of accidents previously evaluated in the UFSAR. Thus, the nuclear design parameters are intermediate results and by themselves will not result in an increase in the consequences of an accident evaluated in the UFSAR.

Therefore, the use of the CASMO-4 methodology, which will perform the same functions as the existing CASMO-3 methodology with similar accuracy, does not significantly increase the consequences of an accident previously evaluated.

2. Does the proposed change create the possibility of a new or different kind of accident from any accident previously evaluated?

Response: No.

The proposed change does not create the possibility of a new or different kind of accident from any accident previously evaluated.

The possibility for a new or different kind of accident evaluated previously in the UFSAR will not be created by the change to the particular methodologies used for physics calculations for nuclear design analyses. The change involves adding CASMO-4 to the SCE physics analysis methodology. CASMO-4 is an update to the CASMO-3 methodology currently approved for use at San Onofre. The results of nuclear design analyses are used as inputs to the analysis of accidents that are evaluated in the UFSAR. These inputs do not alter the physical characteristics or modes of operation of any system, structure or component involved in the initiation of an accident. Therefore, the addition of CASMO-4, which will perform the same functions as CASMO-3 with similar accuracy, does not create the possibility of a new or different kind of accident from any accident previously evaluated.

3. Does the proposed change involve a significant reduction in a margin of safety?

Response: No.

The proposed change does not involve a significant reduction in a margin of safety. The margin of safety as defined in the basis for any technical specification will not be reduced by the proposed change to the computer programs used for physics calculations for nuclear design analyses.

The change involves the addition of CASMO-4 to the SCE physics analysis methodology for nuclear design analysis. Extensive benchmarking of CASMO-4 has demonstrated that the values of those parameters used in the safety analysis are not significantly changed relative to the values obtained using the NRC approved CASMO-3 methodology. For any changes in the calculated values that do occur, the application of appropriate biases and uncertainties ensures that the current margin of safety is maintained. Specifically, use of these code specific biases and uncertainties in safety analyses continues to provide the same statistical assurance that the values of the nuclear parameters used in the safety analysis are conservative with respect to the actual values on at least a 95/95 probability/confidence basis.

The NRC staff has reviewed the licensee's analysis and, based on this review, it appears that the three standards of 10 CFR 50.92(c) are satisfied. Therefore, the NRC staff proposes to determine that the amendment requests involve no significant hazards consideration.

Attorney for licensee: Douglas K. Porter, Esquire, Southern California Edison Company, 2244 Walnut Grove Avenue, Rosemead, California 91770

NRC Branch Chief: Michael T. Markley.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Exelon Generation Company, LLC, and PSEG Nuclear, LLC, Docket Nos. 50-277 and 50-278, Peach Bottom Atomic Power Station (PBAPS), Units 2 and 3, York and Lancaster Counties, Pennsylvania

Date of application for amendments: August 7, 2008, as supplemented on May 7, 2009.

Brief description of amendments: The submittal contains an amendment with six proposed changes that modify the PBAPS Units 2 and 3 Operating Licenses DPR-44 and DPR-56, respectively. Four of the six changes incorporate Technical Specification Task Force (TSTF) travelers that have been previously approved by the Nuclear Regulatory Commission (NRC). The remaining proposed changes modify the PBAPS Units 2 and 3 Technical Specifications (TSs) to incorporate administrative changes and clarifications.

A TS change is issued to incorporate TSTF-485-A, “Correct Example 1.4-1,” Revision 0, to modify the PBAPS Units 2 and 3 TS Section 1.4, “Frequency.” Specifically, Example 1.4-1 is revised to be consistent with the requirements of Surveillance Requirement (SR) 3.0.4 which was revised by TSTF-359, “Increase Flexibility in Mode Restraints,” Revision 9. The current version of Example 1.4-1 is not consistent with the current requirements of SR 3.0.4. Example 1.4-1 is modified to reflect that it is possible to enter the MODE or other specified condition in the applicability of a limited condition for operation (LCO) with a surveillance not performed within the frequency requirements of SR 3.0.2 without resulting in a violation of SR 3.0.4.

A TS change is issued to modify the PBAPS Units 2 and 3 TS to incorporate two administrative changes. The first change modifies TS Table 3.3.8.1-1, “Loss of Power Instrumentation.” TS Table 3.3.8.1-1 lists the TS functions associated with the Loss of Power Instrumentation and include note (a) at the bottom of Table 3.3.8.1-1. The original intent of this footnote was to temporarily retain a record of the previous Loss of Power Instrumentation values to allow for appropriate transition during the period of time that modifications were being installed on Units 2 and 3. This footnote was to expire no later than March 1, 2000 (as stated in the footnote). The note has expired and is no longer necessary. Therefore, note (a) at the bottom of Table 3.3.8.1-1 is eliminated as an administrative change to the TS.

The second change modifies TS Table 3.3.3.1-1, “Post Accident Monitoring Instrumentation,” to correct a typographical error. A previous license amendment incorporated TSTF-295, Revision 0, “Post Accident Monitoring Clarifications,” which included changing the title for Function 8 in TS Table 3.3.3.1-1 from, “PCIV Position,” to “Penetration Flow Path PCIV Position.” However, Function 8 was inadvertently revised on the PBAPS, Unit 2 page to state “Penetration Flaw Path PCIV Position.” The amendment corrects this typographical error for Function 8 in Table 3.3.3.1-1 of the Unit 2 PBAPS TS.

A TS change is issued to modify the PBAPS Units 2 and 3 TS to incorporate an administrative change to Table 3.3.1.1-1, “Reactor Protection System Instrumentation.” Specifically, the proposed change would modify TS Table 3.3.1.1-1 to delete the “NA” from the Allowable Value column for Function 2.f, “OPRM [oscillation power range monitor] Upscale.” The reference to footnote “(d)” which states: “See COLR [core operating limits report] for OPRM period based detection algorithm (PBDA) setpoint limits,” will remain in the Allowable Value column for Function 2.f in TS Table 3.3.1.1-1.

Footnote “(d)” in TS Table 3.3.1.1-1 references the PBAPS COLR which contains the trip setpoint for the setpoint limits associated with Function 2.f. Therefore, the “NA” designation associated with note “d” is eliminated to preclude possible confusion.

The licensee's application also proposed a TS change to incorporate TSTF-363-A, “Revise Topical Report References in ITS [improved technical specifications] 5.6.5, COLR,” Revision 0, to modify the PBAPS Units 2 and 3 TS 5.6.5, “Core Operating Limits Report (COLR),” to remove the requirement to maintain COLR Topical Report references by number, title, date, and NRC staff-approved document, if included. This proposed TS change to incorporate TSTF-363-A, Revision 0, remains under review by the NRC staff and is not being issued under this Notice.

The licensee's application also proposed a TS change to incorporate TSTF-400-A, “Clarification of Surveillance Requirement on Bypass of Noncritical DG [diesel generator] Automatic Trips,” Revision 1, to modify the PBAPS Units 2 and 3 TS SR 3.8.1.13 to clarify the intent of the SR. This proposed TS change to incorporate TSTF-400-A, Revision 1, remains under review by the NRC staff and is not being issued under this Notice.

The licensee's application also proposed a TS change to incorporate TSTF-439-A, “Elimination of Second Completion Times Limiting Time From Discovery of Failure To Meet an LCO,” Revision 2, to modify the PBAPS Units 2 and 3 TS Section 1.3, “Completion Times,” regarding second completion times for TS Action statements. This proposed TS change to incorporate TSTF-439-A, Revision 2, remains under review by the NRC staff and is not being issued under this Notice.

Date of issuance: August 31, 2009.

Effective date: As of the date of issuance and shall be implemented within 90 days from the date of issuance.

Amendment Nos.: 273 and 277.

Renewed Facility Operating License Nos. DPR-44 and DPR-56: Amendments revised the License and Technical Specifications.

Date of initial notice in Federal Register: May 5, 2009, (74 FR 20744). The supplement dated May 7, 2009, clarified the application, did not expand the scope of the application as originally noticed, and did not change the initial proposed no significant hazards consideration determination.

The Commission's related evaluation of the amendments is contained in a Safety Evaluation dated August 31, 2009.

No significant hazards consideration comments received: No.

Exelon Generation Company, LLC, Docket Nos. 50-373 and 50-374, LaSalle County Station, Units 1 and 2, LaSalle County, Illinois

Date of application for amendments: September 11, 2008, as supplemented by letter dated August 11, 2009.

Brief description of amendments: The amendment removes time, cycle, or modification-related items from the operating license and Technical Specifications (TS). Additionally, the amendment corrects a typographical error introduced into the TS from a previous amendment.

Date of issuance: August 27, 2009.

Effective date: As of the date of issuance and shall be implemented within 30 days.

Amendment Nos.: 193/180.

Facility Operating License Nos. NPF-11 and NPF-18: The amendments revised the Technical Specifications and License.

Date of initial notice in Federal Register: December 30, 2008 (73 FR 79931). The supplemental letter contained clarifying information, did not change the initial no significant hazards consideration determination, and did not expand the scope of the original Federal Register notice.

The Commission's related evaluation of the amendments is contained in a Safety Evaluation dated August 27, 2009.

No significant hazards consideration comments received: No.

FirstEnergy Nuclear Operating Company, et al., Docket No. 50-440, Perry Nuclear Power Plant, Unit No. 1, Lake County, Ohio

Date of application for amendment: March 11, 2009.

Brief description of amendment: This amendment revises the technical specification (TS) surveillance requirement frequency in TS 3.1.3, “Control Rod OPERABILITY,” and revises Example 1.4-3 in Section 1.4, “Frequency,” to clarify the applicability of the 1.25 surveillance test interval extension.

Date of issuance: September 1, 2009.

Effective date: As of the date of issuance and shall be implemented within 90 days.

Amendment No.: 153.

Facility Operating License No. NPF-58: This amendment revised the Technical Specifications and License.

Date of initial notice in Federal Register: May 5, 2009 (74 FR 20748).

The Commission's related evaluation of the amendment is contained in a Safety Evaluation dated September 1, 2009.

No significant hazards consideration comments received: No.

Florida Power and Light Company, Docket Nos. 50-250 and 50-251, Turkey Point Plant, Units 3 and 4, Miami-Dade County, Florida

Date of application for amendments: April 13, 2009.

Brief description of amendments: The amendments revise the Turkey Point Technical Specification (TS) to eliminate working hour restrictions from TS 6.8.5 to support compliance with Code of Federal Regulations Title 10 Part 26.

Date of issuance: August 31, 2009.

Effective date: As of the date of issuance and shall be implemented by October 1, 2009.

Amendment Nos: 240 and 235.

Renewed Facility Operating License Nos. DPR-31 and DPR-41: Amendments revised the Technical Specifications.

Date of initial notice in Federal Register: June 30, 2009.

The Commission's related evaluation of the amendments is contained in a Safety Evaluation dated August 31, 2009.

No significant hazards consideration comments received: No.

Southern Nuclear Operating Company, Inc., Docket Nos. 50-348 and 50-364, Joseph M. Farley Nuclear Plant, Units 1 and 2, Houston County, Alabama

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Southern Nuclear Operating Company, Inc., Docket Nos. 50-424 and 50-425, Vogtle Electric Generating Plant, Units 1 and 2, Burke County, Georgia

Date of application for amendments: May 19, 2009.

Brief description of amendments: The amendments delete those portions of technical specifications (TSs) superseded by Title 10 of the Code of Federal Regulations (10 CFR) Part 26, Subpart I. This change is consistent with the Nuclear Regulatory Commission (NRC)-approved Revision 0 to Technical Specification Task Force (TSTF) Traveler, TSTF-511, “Eliminate Working Hour Restrictions from TS 5.2.2 to Support Compliance with 10 CFR Part 26.”

Date of issuance: September 4, 2009.

Effective date: As of the date of issuance and shall be implemented by October 1, 2009.

Amendment Nos.: Farley Unit 1—182; Unit 2—175; Hatch Unit 1—262; Unit 2—206; Vogtle Unit 1—156; Unit 2—137.

Facility Operating License Nos. NPF-2 and NPF-8; DPR-57 and NPF-5; NPF-68 and NPF-81: Amendments revised the licenses and the technical specifications.

Date of initial notice in Federal Register: June 30, 2009 (74 FR 31325).

The Commission's related evaluation of the amendments is contained in a Safety Evaluation dated September 4, 2009.

No significant hazards consideration comments received: No.

Tennessee Valley Authority, Docket No. 50-390, Watts Bar Nuclear Plant (WBN), Unit 1, Rhea County, Tennessee

Date of application for amendment: June 5, 2009, as supplemented July 10, 2009.

Brief description of amendment: The amendment revised WBN Unit 1 Technical Specification (TS) 3.6.3, “Containment Isolation Valves.” The amendment revised Required Action A.2, Required Action C.2, Required Action E.2, Surveillance Requirement (SR) 3.6.3.2, and SR 3.6.3.3 to provide alternatives for valve position verification.

Date of issuance: September 3, 2009.

Effective date: As of the date of issuance and shall be implemented within 60 days of issuance.

Amendment No.: 79.

Facility Operating License No. NPF-90: Amendment revises the TS 3.6.3.

Date of initial notice in Federal Register: June 30, 2009 (74 FR 31327). The supplement dated July 10, 2009, provided additional information that clarified the application, did not expand the scope of the application as originally noticed, and did not change the staff's original proposed no significant hazards consideration determination as published in the Federal Register.

The Commission's related evaluation of the amendment is contained in a Safety Evaluation dated September 3, 2009.

No significant hazards consideration comments received: No.

Tennessee Valley Authority, Docket No. 50-390, Watts Bar Nuclear Plant (WBN), Unit 1, Rhea County, Tennessee

Date of application for amendment: June 5, 2009.

Brief description of amendment: The amendment revised WBN Unit 1 Technical Specification (TS) 3.3.2, “[Engineered Safety Feature Actuation System] ESFAS Instrumentation.” The amendment revised the logic connector from “OR” to “AND” between Condition I, Required Actions I.2.1 and I.2.2 of TS 3.3.2.

Date of issuance: September 8, 2009.

Effective date: As of the date of issuance and shall be implemented within 30 days of issuance.

Amendment No.: 80.

Facility Operating License No. NPF-90: Amendment revises the TS 3.3.2.

Date of initial notice in Federal Register: June 30, 2009 (74 FR 31326).

The Commission's related evaluation of the amendment is contained in a Safety Evaluation dated September 8, 2009.

No significant hazards consideration comments received: No.

Dated at Rockville, Maryland, this 10th day of September 2009.
For the Nuclear Regulatory Commission.
Joseph G. Giitter,
Director, Division of Operating Reactor Licensing, Office of Nuclear Reactor Regulation.

[FR Doc. E9-22605 Filed 9-21-09; 8:45 am]

BILLING CODE 7590-01-P